DEPARTMENT OF TRANSPORTATION

Federal Transit Administration

Limitation on Claims Against Proposed Public Transportation Projects—East Campus Expansion Project, Metra UP North Rebuild: Fullerton to Addison Project and Silver Line Project

AGENCY: Federal Transit Administration (FTA), Department of Transportation (DOT).

ACTION: Notice.

SUMMARY: This notice announces final environmental actions taken by the Federal Transit Administration (FTA) regarding the three projects: East Campus Expansion Project, Indianapolis, Marion County, Indiana; Metra UP North Rebuild: Fullerton to Addison Project, Chicago, Cook County, Illinois; and Silver Line Project, Tarrant, Dallas and Collin Counties, Texas. The purpose of this notice is to publicly announce FTA's environmental decisions on the subject projects, and to activate the limitation on any claims that may challenge these final environmental actions.

DATES: A claim seeking judicial review of FTA actions announced herein for the listed public transportation projects will be barred unless the claim is filed on or before January 12, 2024.

FOR FURTHER INFORMATION CONTACT: Kathryn Loster, Assistant Chief Counsel, Office of Chief Counsel, (312) 705-1269, or Saadat Khan, Environmental Protection Specialist, Office of Environmental Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation projects listed below. The actions on the projects, as well as the laws under which such actions were taken, are described in the documentation issued in connection with the projects to comply with the National Environmental Policy Act (NEPA) and in other documents in the FTA environmental project files for the projects. Interested parties may contact either the project sponsor or the relevant FTA Regional Office for more information. Contact information for FTA's Regional Offices may be found at https://www.transit.dot.gov.

This notice applies to all FTA decisions on the listed projects as of the issuance date of this notice and all laws under which such actions were taken, including, but not limited to, NEPA (42 U.S.C. 4321-4375), section 4(f) requirements (49 U.S.C. 303), Section 106 of the National Historic Preservation Act (54 U.S.C. 306108), Endangered Species Act (16 U.S.C. 1531), Clean Water Act (33 U.S.C. 1251), Uniform Relocation and Real Property Acquisition Policies Act (42 U.S.C. 4601), and the Clean Air Act (42 U.S.C. 7401-7671q). This notice does not, however, alter or extend the limitation period for challenges of project decisions subject to previous notices published in the Federal Register. The projects and actions that are the subject of this notice follow:

1. Project name and location: East Campus Expansion, Indianapolis, Marion County, Indiana. Project Sponsor: Indianapolis Public Transportation Corporation (IndyGo), Indianapolis, Indiana. Project description: The East Campus Expansion project (Project) involves a real estate acquisition of a property (9625 East 33rd Street) by IndyGo located immediately adjacent to the Existing East Campus (9503 East 33rd Street). The Project will expand the Existing East Campus to provide capacity to meet current and future fleet needs, and to provide operational efficiencies for further implementing the Marion County Transit Plan. The Project includes a fleet terminal, operations center, maintenance facility, and a bus operator training track. The Project also involves construction of expanded surface parking for staff, meeting the American with Disabilities Act (ADA) standards, and associated infrastructure improvements.

Final agency actions: Section 106 No Historic Properties Affected determination dated March 13, 2023, and determination of the applicability of a categorical exclusion pursuant to 23 CFR 771.118(d), dated June 12, 2023. Supporting documentation: Documented Categorical Exclusion (CE) and supporting materials, dated May 22, 2023. The CE and associated documents can be viewed and downloaded from: https://www.indygo.net/projects/.

2. Project name and location: Metra UP North Rebuild: Fullerton to Addison, Chicago, Cook County, Illinois. Project Sponsor: Northeast Illinois Regional Commuter Railroad Company (Metra), Chicago, Illinois. Project description: The Metra UP North Rebuild: Fullerton to Addison Project (Project) along Metra's Union Pacific North Line will modernize a stretch of commuter rail line in the city of Chicago. The Project involves replacement of eleven (11) 120-year-old railroad bridges from Fullerton Avenue to Cornelia Avenue, including many retaining walls. The Project will shift tracks west between Fullerton Avenue and Addison Street to align with the existing tracks north and south of the Project area and the Roscoe Street and Cornelia Avenue will be lowered to maintain current clearance under the roadway and the Chicago Transit Authority Brown Line. The Project will also refurbish (including painting) the existing Lincoln/Addison bridge and include some utility work along the Project corridor.

Final agency actions: Section 106 No Adverse Effect determination dated July 15, 2022, and determination of the applicability of a categorical exclusion pursuant to 23 CFR 771.118(d), dated June 21, 2023. Supporting documentation: Documented Categorical Exclusion (CE) and supporting materials, dated May 1, 2023. The CE and associated documents can be viewed and downloaded from: https://www.metra.com/UPNrebuild#Project_UpdateJuly_2023.

3. Project name and location: Silver Line Project (Project), Tarrant, Dallas and Collin Counties, Texas. Project Sponsor: Dallas Area Rapid Transit (DART), Dallas, Texas. Project description: The project consists of a 26-mile double-track regional commuter rail line extending from Dallas-Fort Worth International (DFW) Airport to Shiloh Road in Plano. The alignment traverses seven cities: Grapevine, Coppell, Dallas, Carrollton, Addison, Richardson, and Plano. FTA issued a combined Final Environmental Impact Statement (FEIS) and Record of Decision (ROD) on November 9, 2018, for the project. Subsequently, FTA published a notice of limitation on claims against the project on March 19, 2019, per 23 U.S.C. 139(l). Since then, FTA has completed a series of re-evaluations of the project to address changes resulting from design modifications and stakeholder coordination. FTA also published a notice of limitation on claims against the project on November 18, 2022, per 23 U.S.C. 139(l) for memoranda to file phases A to E. This notice only applies to the discrete actions taken by FTA under the re-evaluations for phases F, G, and H, as described below.

Final agency actions: FTA determined for each re-evaluation that neither a Supplemental Environmental Impact Statement nor a Supplemental Environmental Assessment is necessary, and the November 2018 FEIS/ROD remains valid. Supporting documentation: Memorandum to File Phase F, concerning the Shiloh Road Layover Facility and the US Brass Avoidance Alignment, dated January 6, 2023; Memorandum to File Phase G, concerning the Custer Parkway Grade Separation Change and the Jupiter Road Grade Separation, dated January 27, 2023; and Memorandum to File Phase H, concerning the Final Coit Road Design, dated July 14, 2023. All supporting documentation can be viewed and downloaded from: https://www.dart.org/about/expansion/silverline.asp.

Authority: 23 U.S.C. 139(l)(1).

Megan Blum,
Supervisory Environmental Protection Specialist.

[FR Doc. 2023-17495 Filed 8-14-23; 8:45 am]

BILLING CODE 4910-57-P